NATIONAL SCIENCE FOUNDATION

Proposal Review Panel for Materials Research; Notice of Meeting

In accordance with the Federal Advisory Committee Act (Pub. L. 92-463 as amended), the National Science Foundation announces the following meeting:

Name: Proposal Review Panel for Materials Research (DMR) #1203.

Dates & Times: June 26, 2005; 7 p.m.-9 p.m. (Closed). June 27, 2005; 7:45 a.m.-9:30 p.m. (Open 8:15-12:15, 1:15-3:45). June 28, 2005; 8 a.m.-4 p.m. (Closed).

Place: Rensselaer Polytechnic Institute, Troy, New York.

Type of Meeting: Part Open.

Contact Person: Dr. David L. Nelson, Program Director, Solid State Chemistry Program, Division of Materials Research, Room 1065, National Science Foundation, 4201 Wilson Boulevard, Arlington, VA 22230, Telephone (703) 292-4932.

Agenda: June 26, 2005—Closed. June 27, 2005—Open for Director's overview of Nanoscale Science and Engineering Center and presentations. June 28, 2005—Closed to review and evaluate progress of Nanoscale Science and Engineering Center.

Reason for Closing: The work being reviewed may include information of a proprietary or confidential nature, including technical information; financial data, such as salaries and personal information concerning individuals associated with the proposals. These matters are exempt under 5 U.S.C. 552b(c), (4) and (6) of the Government in the Sunshine Act.

Dated: May 24, 2005.
Susanne Bolton,
Committee Management Officer.

[FR Doc. 05-10654 Filed 5-26-05; 8:45 am]

BILLING CODE 7555-01-M